FEDERAL ELECTION COMMISSION

Sunshine Act Notices

Date & Time: Tuesday, September 11, 2007 to be held at the conclusion of the open meeting.

Place: 999 E Street, NW., Washington, DC.

Status: This meeting will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date & Time: Tuesday, September 11, 2007 at 10 a.m.

Place: 999 E Street, NW., Washington, DC (ninth floor).

Status: This meeting will be open to the public.

Items to be Discussed: Correction and Approval of Minutes.

Advisory Opinion 2007-12: Tyco International Management Company and Tyco International Management Company Political Action Committee, by counsel, Jan W. Baran and D. Mark Renaud.

Management and Administrative Matters.

FOR FURTHER INFORMATION CONTACT: Mr. Robert Biersack, Press Officer, Telephone: (202) 694-1220.

Mary W. Dove,
Secretary of the Commission.

[FR Doc. 07-4406 Filed 9-5-07; 9:54 am]

BILLING CODE 6715-01-M